DEPARTMENT OF COMMERCE

International Trade Administration

[A-583-816]

Certain Stainless Steel Butt-Weld Pipe Fittings from Taiwan: Notice of Court Decision and Suspension of Liquidation

AGENCY: Import Administration, International Trade Administration, Department of Commerce.

SUMMARY: On April 6, 2006, in Alloy Piping Products, Inc., Flowline Division, et al. v. United States, Slip Op. 06-47, (“Alloy Piping II”), the Court of International Trade (“CIT”) affirmed the Department of Commerce's (“Department”) Final Results of Determination Pursuant to Remand (“Remand Results”), dated August 16, 2004. Consistent with the decision of the U.S. Court of Appeals for the Federal Circuit (“CAFC”) in Timken Co. v. United States, 893 F.2d 337 (Fed. Cir. 1990) (“Timken”), the Department will continue to order the suspension of liquidation of the subject merchandise, where appropriate, until there is a “conclusive” decision in this case. If the case is not appealed, or if it is affirmed on appeal, the Department will instruct U.S. Customs and Border Protection (“CBP”) to liquidate all relevant entries from Ta Chen Stainless Steel Pipe, Ltd. (“Ta Chen”) and revise the cash deposit rates as appropriate.

EFFECTIVE DATE: April 18, 2006.

FOR FURTHER INFORMATION CONTACT: Alex Villanueva, AD/CVD Operations, Office 9, Import Administration, International Trade Administration, U.S. Department of Commerce, 1401 Constitution Avenue, NW, Washington, DC 20230; telephone; 202-482-3208, fax; 202-482-9089.

SUPPLEMENTARY INFORMATION:

Background

Following publication of the Final Results, Ta Chen filed a lawsuit with the CIT challenging the Department's findings in Certain Stainless Steel Butt-Weld Pipe Fittings From Taiwan and Accompanying Issues and Decisions Memorandum; Final Results of 1998-1999 Administrative Review, 65 FR 81827, 81830 (December 27, 2000) (“Final Results”).¹ In Alloy Piping v. United States, Slip Op. 04-46 (CIT 2004) (“Alloy Piping I”), the CIT instructed the Department to (1) reconsider the factual and legal basis for its determination concerning the alleged reimbursement agreement; and (2) reconsider its calculation of CEP² profit.

¹ The period of review is June 1, 1998, through May 31, 1999 (“POR”).

² Constructed Export Price

The Draft Final Results Pursuant to Remand (“Draft Results”) were released to parties on August 5, 2004. The Department received comments from interested parties on the Draft Results on August 9, 2004. There were no substantive changes made to the Remand Results as a result of comments received on the Draft Results. On August 16, 2004, the Department responded to the CIT's Order of Remand by filing the Remand Results. In the Remand Results, the Department reconsidered its decision concerning the reimbursement agreement and determined that the reimbursement agreement, in light of the new information submitted by Ta Chen on May 18, 2004, indicated that the reimbursement agreement did not apply for the June 1, 1998, through May 31, 1999, period, but was limited to the 1992-1994 period. The Department also reconsidered its CEP Profit calculation and determined that the CEP Profit equation is symmetric with regard to the imputed interest expenses such that the imputed interest expenses in the “Total U.S. Expenses” numerator are in fact reflected in recognized financial expenses in the “Total Expenses” denominator and the “Total Actual Profit” multiplier. Thus, the Department did not change Ta Chen's CEP Profit. As a result of the remand determination, the antidumping duty rate for Ta Chen was decreased from 12.84 to 6.42 percent.

On April 6, 2006, the CIT affirmed the Department's findings in the Remand Results. Specifically, the CIT upheld the Department's finding that Ta Chen was not reimbursing antidumping duties during the POR and that the Department's calculation of CEP profit was accurate. See Alloy Piping II. As noted above, this revision resulted in a change in Ta Chen's margin.

Suspension of Liquidation

The CAFC, in Timken, held that the Department must publish notice of a decision of the CIT or the CAFC which is not “in harmony” with the Department's final determination or results. Publication of this notice fulfills that obligation. The CAFC also held that the Department must suspend liquidation of the subject merchandise until there is a “conclusive” decision in the case. Therefore, pursuant to Timken, the Department must continue to suspend liquidation pending the expiration of the period to appeal the CIT's April 6, 2006, decision, or, if that decision is appealed, pending a final decision by the CAFC. The Department will instruct Customs to revise cash deposit rates, as appropriate, and to liquidate relevant entries covering the subject merchandise in the event that the CIT's ruling is not appealed, or if appealed and upheld by the CAFC.

Dated: April 13, 2006.
David M. Spooner,
Assistant Secretary for Import Administration.

[FR Doc. 06-3743 Filed 4-17-06; 8:45 am]

BILLING CODE 3510-DS-S